ENVIRONMENTAL PROTECTION AGENCY

[ER-FRL-6653-2]

Environmental Impact Statements; Notice of Availability

Responsible Agency: Office of Federal Activities, General Information (202) 564-7167 or http://www.epa.gov/compliance/nepa/ Weekly receipt of Environmental Impact Statements Filed June 21, 2004 Through June 25, 2004 Pursuant to 40 CFR 1506.9.

EIS No. 040297, DRAFT SUPPLEMENT, FTA, NY, Erie Canal Harbor Project (formerly known as the Buffalo Inner Harbor Development Project) Updated Information on the Original Project, City of Buffalo, Erie County, NY, Comment Period Ends: August 9, 2004, Contact: Irwin Kessman (212) 668-2170. The above FTA EIS should have appeared in the 6/25/2004 Federal Register. The 45-day Comment Period is Calculated from 6/25/2004.

EIS No. 040298, DRAFT EIS, AFS, OR, 18 Fire Recovery Project, Salvaging Dead Trees, Reforesting 1,936 Acres with Ponderosa Pine Seedling and Closing/Decommissioning Roads, Deschutes National Forest, Bend/Fort Rock Ranger District, Deschutes County, OR, Comment Period Ends: August 16, 2004, Contact: Jim Schlaich (541) 383-4725.

This document is available on the Internet at: http://www.fs.fed.us/r6/centraloregon/projects/units/bendrock/18fire/.

EIS No. 040299, DRAFT EIS, AFS, ID, South Bear River Range Allotment Management Plan Revisions, Continued Livestock Grazing on Ten Allotments, Caribou-Targhee National Forest, Montpelier Ranger District, Bear Lake and Franklin Counties, ID, Comment Period Ends: August 16, 2004, Contact: Heich Heyrend (208) 847-0375.

EIS No. 040300, DRAFT EIS, AFS, WY, Bighorn National Forest Revised Land and Resource Management Plan, Implementation, Big Horn Mountain Range, Bighorn National Forest, Johnson, Sheridan, Bighorn and Washakie Counties, WY, Comment Period Ends: September 30, 2004, Contact: Bernie Bornong (307) 674-2685.

This document is available on the Internet at: http://www.fs.fed.us/r2/bighorn.

EIS No. 040301, FINAL EIS, AFS, OR, Eyerly Fire Salvage Project, Burned and Damaged Trees Salvage, Reforestation and Fuels Treatment, Implementation, Deschutes National Forest, Sisters Ranger District, Jefferson County, OR , Wait Period Ends: August 2, 2004, Contact: Dave Owens (541) 416-6425.

This document is available on the Internet at: http//www.fs.fed.us/r6/deschutes.

Amended Notices

EIS No. 040247, FINAL EIS, SFW, CA, Multiple Habitat Conservation Program for Threatened and Endangered Species Due to the Urban Growth within the Planning Area, Adoption and Incidental Take Permits Issuance, San Diego County, CA, Due: July 6, 2004, Contact: Lee Ann Carranza (760) 431-9440.

Revision of FR Notice Published on 6/4/2004: CEQ Comment Period Ending 6/28/2004 has been Extended to 7/6/2004.

EIS No. 040296, FINAL SUPPLEMENT, NOA, Final Rule to Implement Management Measures for the Reduction of Sea Turtle Bycatch and Bycatch Mortality in the Atlantic Pelagic Longline Fishery, Wait Period Ends: June 29, 2004,

Contact: Christopher Rogers (301) 713-2347. Correction Website Address: http//www.nmfs.noaa.gov/sfa/hms/hmsdocuments.html#feis.

Dated: June 29, 2004.
Ken Mittelholtz,
Environmental Protection Specialist, Office of Federal Activities.

[FR Doc. 04-15099 Filed 7-1-04; 8:45 am]

BILLING CODE 6560-50-U